DEPARTMENT OF VETERANS AFFAIRS

[OMB Control No. 2900-0219]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before April 6, 2007.

ADDRESSES: Submit written comments on the collection of information through http://www.Regulations.gov; or to VA's OMB Desk Officer, OMB Human Resources and Housing Branch, New Executive Office Building, Room 10235, Washington, DC 20503 (202) 395-7316. Please refer to “OMB Control No. 2900-0219” in any correspondence.

FOR FURTHER INFORMATION CONTACT: Denise McLamb, Records Management Service (005G2), Department of Veterans Affairs, 810 Vermont Avenue, NW., Washington, DC 20420, (202) 565-8374, fax (202) 565-7870 or e-mail denise.mclamb@mail.va.gov. Please refer to “OMB Control No. 2900-0219.”

SUPPLEMENTARY INFORMATION: Titles:

a. Application for CHAMPVA Benefits, VA Form 10-10d.

b. CHAMPVA Claim Form, VA Form 10-7959a.

c. CHAMPVA Other Health Insurance (OHI) Certification, VA Form 10-7959c.

d. CHAMPVA Potential Liability Claim, VA Form 10-7959d.

OMB Control Number: 2900-0219.

Type of Review: Extension of a currently approved collection.

Abstract:

a. VA Form 10-10d is used to determine eligibility of persons applying for healthcare benefits under the CHAMPVA program.

b. VA Form 10-7959a is used to accurately adjudicate and process beneficiaries claims for payment/reimbursement of related healthcare expenses.

c. VA Form 10-7959c is used to systematically obtain other health insurance information and to correctly coordinate benefits among all liable parties.

d. VA Form 10-7959d is used to gather additional information relative to the injury or illness as well as third party claim information.

An agency may not conduct or sponsor and a person is not required to respond to a collection of information unless it displays a currently valid OMB control number. The Federal Register Notice with a 60-day comment period soliciting comments on this collection of information was published on November 20, 2006, at pages 67205-67206.

Affected Public: Individuals or households, and business or other for-profit.

Estimated Annual Burden: 19,668 hours.

a. VA Form 10-10d—4,917 hours.

b. VA Form 10-7959a—4,717 hours.

c. VA Form 10-7959c—9,567 hours.

d. VA Form 10-7959d—467 hours.

Estimated Average Burden per Respondent:

a. VA Form 10-10d—10 minutes.

b. VA Form 10-7959a—10 minutes.

c. VA Form 10-7959c—10 minutes.

d. VA Form 10-7959d—7 minutes.

Frequency of Response: On occasion.

Estimated Number of Respondents: 119,200.

a. VA Form 10-10d—29,500.

b. VA Form 10-7959a—28,300.

c. VA Form 10-7959c—57,400.

d. VA Form 10-7959d—4,000.

Dated: February 15, 2007.
By direction of the Secretary.
Denise McLamb,
Program Analyst, Records Management Service.

[FR Doc. E7-4009 Filed 3-6-07; 8:45 am]

BILLING CODE 8320-01-P